DEPARTMENT OF JUSTICE

Notice of Lodging of Proposed Consent Decree

In accordance with Departmental Policy, 28 CFR 50.7, notice is hereby given that a proposed Consent Decree in United States v. Tyson L. Friskney, 3:23-cv-00439-JRK, was lodged with the United States District Court for the Northern District of Ohio on August 19, 2025.

This proposed Consent Decree concerns a complaint filed by the United States against Tyson L. Friskney, pursuant to § 309(b) of the Clean Water Act, 33 U.S.C. 1319(b), to obtain injunctive relief from the Defendant for violating the Clean Water Act by discharging pollutants without a permit into waters of the United States. The proposed Consent Decree resolves these allegations by requiring the Defendant to perform injunctive relief, in the form of compensatory mitigation via the purchase stream mitigation credits.

The Department of Justice will accept written comments relating to this proposed Consent Decree for thirty (30) days from the date of publication of this Notice. Please address comments to Miranda Jensen, P.O. Box 7611, Washington, DC 20044-7611, pubcomment_eds.enrd@usdoj.gov and refer to United States v. Tyson L. Friskney, 90-5-1-1-21944.

The proposed Consent Decree may be examined at the Clerk's Office, United States District Court for the Northern District of Ohio, 1716 Spielbusch Avenue, Toledo, Ohio 43604. In addition, the proposed Consent Decree may be examined electronically at https://www.justice.gov/enrd/consent-decrees.

Charles Scott Spear,
Acting Assistant Section Chief, Environmental Defense Section, Environment and Natural Resources Division.

[FR Doc. 2025-16097 Filed 8-21-25; 8:45 am]

BILLING CODE P